DEPARTMENT OF COMMERCE

International Trade Administration

[A-557-816]

Certain Steel Nails From Malaysia: Preliminary Results of Antidumping Duty Administrative Review; 2020-2021

AGENCY: Enforcement and Compliance, International Trade Administration, Department of Commerce.

SUMMARY: The U.S. Department of Commerce (Commerce) preliminarily finds that producers and/or exporters subject to this administrative review made sales of subject merchandise at less than normal value during the period of review July 1, 2020, through June 30, 2021. Interested parties are invited to comment on these preliminary results.

DATES: Applicable August 5, 2022.

FOR FURTHER INFORMATION CONTACT: Emily Bradshaw or John K. Drury, AD/CVD Operations, Office VI, Enforcement and Compliance, International Trade Administration, U.S. Department of Commerce, 1401 Constitution Avenue NW, Washington, DC 20230; telephone: (202) 482-3896 or (202) 482-0195, respectively.

SUPPLEMENTARY INFORMATION:

Background

On September 7, 2021, Commerce published the notice of initiation of the administrative review of the antidumping duty order on certain steel nails from Malaysia.¹ On February 23, 2022, we extended the time limit for completion of these preliminary results to July 29, 2022, in accordance with section 751(a)(3)(A) of the Tariff Act of 1930, as amended (the Act).²

¹ See Initiation of Antidumping and Countervailing Duty Administrative Reviews, 86 FR 50034 (September 7, 2021) (Initiation Notice); see also Certain Steel Nails from the Republic of Korea, Malaysia, the Sultanate of Oman, Taiwan, and the Socialist Republic of Vietnam: Antidumping Duty Orders, 80 FR 39994 (July 13, 2015) (Order).

² See Memorandum, “Certain Steel Nails from Malaysia: Extension of Deadline for Preliminary Results of Antidumping Duty Administrative Review; 2020-2021,” dated February 23, 2022.

Scope of the Order

The products covered by the scope of the Order are certain steel nails from Malaysia. For a complete description of the scope of the Order, see the Preliminary Decision Memorandum.³

³ See Memorandum, “Certain Steel Nails from Malaysia: Decision Memorandum for Preliminary Results of Antidumping Duty Administrative Review; 2020-2021,” dated concurrently with, and hereby adopted by, this notice.

Methodology

Commerce is conducting this review in accordance with section 751(a) of the Act. For a full description of the methodology underlying these preliminary results, see the Preliminary Decision Memorandum. A list of the topics discussed in the Preliminary Decision Memorandum is included as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

Rate for Non-Selected Respondents

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this review, we preliminarily calculated weighted-average dumping margins for Inmax Sdn. Bhd. and Inmax Industries Sdn. Bhd. (Inmax) and Region International Co., Ltd. and Region System Sdn. Bhd. (Region) that are not zero, de minimis, or determined entirely on the basis of facts available. For Inmax, we do not have publicly ranged data and, therefore, are unable to calculate the weighted-average margin using the publicly-ranged data. Accordingly, Commerce is preliminarily assigning to the companies not individually examined, listed in Appendix II, a margin of 5.32 percent which is the simple average of the calculated weighted-average dumping margins for Inmax and Region.

Preliminary Determination of No Shipments

On October 4, 2021, we received letters from Trinity Steel Private Limited (Trinity),⁴ Geekay Wires Limited (Geekay),⁵ and Astrotech Steels Private Limited (Astrotech),⁶ timely notifying Commerce that they had no exports, sales, or entries of subject merchandise during the POR. Commerce issued no shipment inquiries to U.S. Customs and Border Protection (CBP), and CBP found no evidence of shipments from any of these companies during the POR.⁷ Thus, based on record evidence, we preliminarily determine that Astrotech, Geekay, and Trinity had no shipments during the POR. Consistent with Commerce's practice, we find that it is not appropriate to rescind the review with respect to Astrotech, Geekay, and Trinity, but rather to complete the review and issue appropriate instructions to CBP based on the final results of this review.⁸

⁴ See Trinity's Letter, “Certain Steel Nails—Malaysia, Notice of No sales during the Period of Review (POR),” dated October 4, 2021.

⁵ See Geekay's Letter, “Certain Steel Nails—Malaysia, Request for No Shipment during the Period of Review (POR),” dated October 4, 2021.

⁶ See Astrotech's Letter, “Certain Steel Nails from Malaysia, Request for No Shipment during the Period of Review (POR),” dated October 4, 2021.

⁷ See Memoranda, “Certain Steel Nails from Malaysia; No Shipment Inquiry for Astrotech Steels Private Limited during the period 07/01/2020 through 06/30/2021,” dated February 22, 2022; “Certain Steel Nails from Malaysia; No Shipment Inquiry for Geekay Wires Limited during the period 07/01/2020 through 06/30/2021,” dated February 22, 2022; and “Certain Steel Nails from Malaysia; No Shipment Inquiry for Trinity Steel Private Limited during the period 07/01/2020 through 06/30/2021,” dated February 22, 2022.

⁸ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014); and Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Preliminary Results of Review

We preliminarily determine that the following estimated weighted-average dumping margins exist for the period July 1, 2020, through June 30, 2021:

Producer/exporter | Estimated weighted- average dumping margin (percent)
Inmax Sdn. Bhd. and Inmax Industries Sdn. Bhd | 4.89
Region International Co., Ltd. and Region System Sdn. Bhd | 5.74
Non-Selected Respondents ⁹ | 5.32

Disclosure and Public Comment

⁹ See Appendix II for the list of non-selected respondents.

We intend to disclose the calculations performed to parties in this administrative review within five days after public announcement of the preliminary results, in accordance with 19 CFR 351.224(b).

Pursuant to 19 CFR 351.309(c), interested parties may submit case briefs no later than 30 days after the date of publication of this notice. Rebuttal briefs, limited to issues raised in the case briefs, may be filed not later than seven days after the date for filing case briefs.¹⁰ Note that Commerce has temporarily modified certain of its requirements for serving documents containing business proprietary information, until further notice.¹¹ Parties who submit case briefs or rebuttal briefs in this administrative review are encouraged to submit with each argument: (1) a statement of the issue; (2) a brief summary of the argument; and (3) a table of authorities.¹²

¹⁰ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”)

¹¹ See Temporary Rule Modifying AD/CVD Service Requirements Due to COVID-19; Extension of Effective Period, 85 FR 41363 (July 10, 2020).

¹² See 19 CFR 351.303 (for general filing requirements).

Pursuant to 19 CFR 351.310(c), interested parties who wish to request a hearing must submit a written request to the Assistant Secretary for Enforcement and Compliance, filed electronically via ACCESS. Requests should contain: (1) the party's name, address and telephone number; (2) the number of participants; and (3) a list of issues to be discussed. Issues raised in the hearing will be limited to those raised in the respective case briefs. If a request for a hearing is made, Commerce intends to hold the hearing at a time and date to be determined. An electronically filed hearing request must be received successfully in its entirety by Commerce's electronic records system, ACCESS, by 5:00 p.m. Eastern Time within 30 days after the date of publication of this notice.¹³

¹³ See 19 CFR 351.310(c).

Commerce intends to issue the final results of this administrative review, including the results of its analysis of the issues raised in any written briefs, no later than 120 days after the date of publication of this notice, unless extended, pursuant to section 751(a)(3)(A) of the Act.

Assessment Rates

Upon issuing the final results, Commerce shall determine, and U.S. Customs and Border Protection (CBP) shall assess, antidumping duties on all appropriate entries. If the weighted-average dumping margin for a mandatory respondent is not zero or de minimis in the final results of this review, we will calculate an importer-specific assessment rate on the basis of the ratio of the total amount of dumping calculated for each importer's examined sales and the total entered value of such sales in accordance with 19 CFR 351.212(b)(1).¹⁴ If the weighted-average dumping margin is zero or de minimis in the final results of review, or if an importer-specific assessment rate is zero or de minimis, Commerce will instruct CBP to liquidate appropriate entries without regard to antidumping duties.¹⁵ For entries of subject merchandise during the period of review produced by the respondents for which they did not know its merchandise was destined for the United States, we will instruct CBP to liquidate unreviewed entries.¹⁶

¹⁴ See Antidumping Proceedings: Calculation of the Weighted-Average Dumping Margin and Assessment Rate in Certain Antidumping Proceedings: Final Modification, 77 FR 8101, 8103 (February 14, 2012).

¹⁵ Id., 77 FR at 8102-03; see also 19 CFR 351.106(c)(2).

¹⁶ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

Cash Deposit Requirements

The following cash deposit requirements will be effective upon publication in the Federal Register of the final results of this administrative review for all shipments of the subject merchandise entered, or withdrawn from warehouse, for consumption on or after the date of publication, as provided by section 751(a)(2)(C) of the Act: (1) the cash deposit rate for companies subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation but the producer is, then the cash deposit rate will be the rate established in the most recently completed segment of the proceeding for the producer of the merchandise; and (4) the cash deposit rate for all other producers or exporters will continue to be 2.66 percent, the all-others rate established in the less-than-fair-value investigation.¹⁷ These cash deposit requirements, when imposed, shall remain in effect until further notice.

¹⁷ See Certain Steel Nails from Malaysia: Amended Final Determination of Sales at Less Than Fair Value, 80 FR 34370 (June 16, 2015).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

Commerce is issuing and publishing this notice in accordance with sections 751(a)(1) and 777(i)(1) of the Act, 19 CFR 351.213(h)(2), and 19 CFR 351.221(b)(4).

Dated: July 29, 2022.
Lisa W. Wang,
Assistant Secretary for Enforcement and Compliance.

Appendix I

List of Topics Discussed in the Preliminary Decision Memorandum

I. Summary

II. Background

III. Scope of the Order

IV. Rate for Non-Selected Companies

V. Preliminary Determination of No Shipments

VI. Discussion of the Methodology

VII. Currency Conversion

VIII. Recommendation

Appendix II

List of Non-Selected Respondents

Airlift Trans Oceanic Pvt. Ltd.

Alsons Manufacturing India, LLP.

Astrotech Steels Pvt. Ltd.

Atlantic Marine Group Ltd.

Bluemoon Logistics Pvt. Ltd.

C.H. Robinson Worldwide Freight India Pvt., Ltd.

Chia Pao Metal Co., Ltd.

Chuan Heng Hardware Paints and Building Materials Sdn. Bhd.

Come Best (Thailand) Co., Ltd.

Dahnay Logistics Pvt., Ltd.

Gbo Fastening Systems AB.

Geekway Wires Limited.

Honour Lane Logistics Sdn., Bhd.

Honour Lane Shipping Ltd.

Impress Steel Wire Industries Sdn., Bhd.

Kerry-Apex (Thailand) Co., Ltd.

Kerry Indev Logistics Pvt., Ltd.

Kerry Logistics (M) Sdn., Bhd.

Kimmu Trading Sdn., Bhd.

Modern Factory for Steel Industries Co., Ltd.

Oman Fasteners LLC.

Orient Containers Sdn., Bhd.

Orient Express Container Co., Ltd.

RM Wire Industries Sdn. Bhd.

Royal Logistics.

SAR Transport Systems Pvt., Ltd.

Soon Shing Building Materials Sdn., Bhd.

Storeit Services LLP.

Tag Fasteners Sdn., Bhd.

Tag Staples Sdn., Bhd.

Tampin Sin Yong Wai Industry Sdn., Bhd.

Teamglobal Logistics Pvt., Ltd.

Top Remac Industries.

Trinity Steel Private Limited.

UD Industries Sdn., Bhd.

Vien Group Sdn., Bhd.

Watasan Industries Sdn., Bhd.

WWL India Private Ltd.

[FR Doc. 2022-16820 Filed 8-4-22; 8:45 am]

BILLING CODE 3510-DS-P